DEPARTMENT OF TRANSPORTATION

Federal Aviation Administration

14 CFR Part 39

[Docket No. FAA-2007-28075; Directorate Identifier 2007-NE-21-AD; Amendment 39-15204; AD 2007-19-13]

RIN 2120-AA64

Airworthiness Directives; B/E Aerospace Skyluxe II (AA2) Passenger Seats

AGENCY: Federal Aviation Administration (FAA), Department of Transportation (DOT).

ACTION: Final rule; request for comments.

SUMMARY: We are adopting a new airworthiness directive (AD) for the products listed above. This AD results from mandatory continuing airworthiness information (MCAI) issued by the aviation authority of the United Kingdom (UK) to identify and correct an unsafe condition on B/E Aerospace Skyluxe II (AA2) passenger seats. The MCAI states the following:

Compliance is required with B/E Aerospace Alert Service Bulletin 25-20-2658 not later than one month from receipt of the bulletin. The Alert Service Bulletin requires inspection and re-orientation of the Hydrolok retaining pin. This action is required because under certain conditions the Hydrolok pin can migrate and disconnect from the seat structure, resulting in the seat back having no rearward restraint and allowing it to rotate aft into the seat or exit pathway behind.

We are issuing this AD to prevent detachment of the seat hydrolok pin, allowing the seat back to rotate aft without restraint, which could lead to occupant injury.

DATES: This AD becomes effective October 3, 2007.

The Director of the Federal Register approved the incorporation by reference of B/E Aerospace Alert Service Bulletin No. 25-20-2658, dated November 12, 2001, listed in the AD as of October 18, 2007.

We must receive comments on this AD by October 18, 2007.

ADDRESSES: The Docket Operations office is located at U.S. Department of Transportation, Docket Operations, M-30, West Building Ground Floor, Room W12-140, 1200 New Jersey Avenue, SE., Washington, DC 20590.

Examining the AD Docket

You may examine the AD docket on the Internet at http://dms.dot.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

FOR FURTHER INFORMATION CONTACT: Jeffrey Lee, Aerospace Engineer, Boston Aircraft Certification Office, FAA, Engine & Propeller Directorate, 12 New England Executive Park, Burlington, MA 01803; e-mail: Jeffrey.lee@faa.gov; telephone (781) 238-7161; fax (781) 238-7170.

SUPPLEMENTARY INFORMATION:

Discussion

The Civil Aviation Authority (CAA), which is the civil aviation authority for the UK, has issued AD 002-11-2001, dated November 27, 2001, to correct an unsafe condition for the specified products. The CAA AD states:

Compliance is required with B/E Aerospace Alert Service Bulletin 25-20-2658 not later than one month from receipt of the bulletin. The Alert Service Bulletin requires inspection and re-orientation of the Hydrolok retaining pin. This action is required because under certain conditions the Hydrolok pin can migrate and disconnect from the seat structure, resulting in the seat back having no rearward restraint and allowing it to rotate aft into the seat or exit pathway behind.

You may obtain further information by examining the CAA AD in the AD docket.

Relevant Service Information

B/E Aerospace has issued Alert Service Bulletin (ASB) No. 25-20-2658, dated November 12, 2001. The actions described in this service information are intended to correct the unsafe condition identified in the CAA AD.

FAA's Determination and Requirements of This AD

This product has been approved by the aviation authority of the UK and is approved for operation in the United States. Pursuant to our bilateral agreement with the UK, they have notified us of the unsafe condition described in the CAA AD and service information referenced above. We are issuing this AD because we evaluated all the information provided by the CAA and determined the unsafe condition exists and is likely to exist or develop on other products of the same type design. This AD requires inspection and re-orientation of the Hydrolok retaining pin.

FAA's Determination of the Effective Date

An unsafe condition exists that requires the immediate adoption of this AD. The FAA has found that the risk to the flying public justifies waiving notice and comment prior to adoption of this rule because B/E Aerospace requires compliance with the ASB within one month of receipt of the ASB. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-28075; Directorate Identifier 2007-NE-21-AD” at the beginning of your comments. We specifically invite comments on the overall regulatory, economic, environmental, and energy aspects of this AD. We will consider all comments received by the closing date and may amend this AD because of those comments.

We will post all comments we receive, without change, to http://dms.dot.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-19-13 B/E Aerospace: Amendment 39-15204; Docket No. FAA-2007-28075; Directorate Identifier 2007-NE-21-AD.

Effective Date

(a) This airworthiness directive (AD) becomes effective October 3, 2007.

Affected ADs

(b) None.

Applicability

(c) This AD applies to B/E Aerospace Skyluxe II (AA2) passenger seats. These seats are installed on, but not limited to, Airbus A300, A300-600, A320, A321, A330, and A340 series airplanes; Boeing 737-800 series, 747-200, -300, and -400 series; 767-200 and -300 series; 777-200 and -300 series airplanes; and McDonnell Douglas MD-11 airplanes.

Reason

(d) United Kingdom (UK) Civil Aviation Authority (CAA) AD 002-11-2001, dated November 27, 2001, states:

Compliance is required with B/E Aerospace Alert Service Bulletin 25-20-2658 not later than one month from receipt of the bulletin. The Alert Service Bulletin requires inspection and re-orientation of the Hydrolok retaining pin. This action is required because under certain conditions the Hydrolok pin can migrate and disconnect from the seat structure, resulting in the seat back having no rearward restraint and allowing it to rotate aft into the seat or exit pathway behind.

We are issuing this AD to prevent detachment of the seat hydrolok pin, allowing the seat back to rotate aft without restraint, which could lead to occupant injury.

Actions and Compliance

(e) Unless already done, do the following actions within 30 days after the effective date of this AD:

(1) Visually inspect and re-orient if necessary, Hydrolok retaining pins.

(2) Use paragraphs 3.1.1 through 3.1.13 of Accomplishment Instructions of B/E Aerospace Alert Service Bulletin No. 25-20-2658, dated November 12, 2001, to perform the inspections and re-orientations.

Other FAA AD Provisions

(f) Alternative Methods of Compliance (AMOCs): The Manager, Boston Aircraft Certification Office, FAA, has the authority to approve AMOCs for this AD, if requested using the procedures found in 14 CFR 39.19.

Related Information

(g) Refer to UK CAA AD 002-11-2001, dated November 27, 2001, for related information.

(h) Contact Jeffrey Lee, Aerospace Engineer, Boston Aircraft Certification Office, FAA, Engine & Propeller Directorate, 12 New England Executive Park, Burlington, MA 01803; e-mail: Jeffrey.lee@faa.gov; telephone (781) 238-7161; fax (781) 238-7170, for more information about this AD.

Material Incorporated by Reference

(i) You must use B/E Aerospace Alert Service Bulletin No. 25-20-2658, dated November 12, 2001, to do the actions required by this AD, unless the AD specifies otherwise.

(1) The Director of the Federal Register approved the incorporation by reference of this service information under 5 U.S.C. 552(a) and 1 CFR part 51.

(2) For service information identified in this AD, contact B/E Aerospace, (UK) Ltd., Grovebury Road, Leighton Buzzard, Bedfordshire, England LU7 4TB; telephone 44 1525 858 371.

(3) You may review service information copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on September 12, 2007.
Francis A. Favara,
Manager, Engine and Propeller Directorate, Aircraft Certification Service.

[FR Doc. E7-18336 Filed 9-17-07; 8:45 am]

BILLING CODE 4910-13-P